DEPARTMENT OF THE INTERIOR

Fish and Wildlife Service

[FWS-R8-ES-2016-N072; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before May 23, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests

Applicants

Permit No. TE-227263

Applicant: Emilie Strauss, Berkeley, California

The applicant requests a permit renewal to take (harass by survey) the California Ridgway's rail (California clapper r.) (Rallus obsoletus obsoletus) (R. longirostris o.) in conjunction with survey activities throughout the range of the species for the purpose of enhancing the species' survival.

Permit No. TE-098997

Applicant: Gregory Warrick, Tehachapi, California

The applicant requests a permit amendment to take (harass by survey, capture, handle, and release) the Tipton kangaroo rat (Dipodomys nitratoides nitratoides) and giant kangaroo rat (Dipodomys ingens) in conjunction with survey activities throughout the range of the species in California for the purpose of enhancing the species' survival.

Permit No. TE-807078

Applicant: Point Reyes Bird Observatory, Petaluma, California

The applicant requests a permit amendment to take (harass by survey, nest monitor, capture, measure, band, release, and set up, monitor and maintain cameras) the California least tern (Sternula antillarum browni) (Sterna a. browni), take (harass by survey, nest monitor, and remove brown-headed cowbird (Molothrus ater) eggs and chicks from parasitized nests) the southwestern willow flycatcher (Empidonax traillii extimus); take (harass by survey) the California Ridgway's rail (California clapper r.) (Rallus obsoletus obsoletus) (R. longirostris o.); and take (locate, nest monitor, and remove brown-headed cowbird (Molothrus ater) eggs and chicks from parasitized nests) the least Bell's vireo (Vireo bellii pusillus) in conjunction with survey and monitoring activities throughout the range of the species in California for the purpose of enhancing the species' survival.

Permit No. TE-026659

Applicant: Ventana Wildlife Society, Salinas, California

The applicant requests a permit renewal to take (capture, handle, transport, take biological samples, attach transmitters and wing markers, perform veterinary care, release, and monitor) the California condor (Gymnogyps californianus) in conjunction with reintroduction activities throughout the range of the species in California for the purpose of enhancing the species' survival.

Permit No. TE-58888A

Applicant: Dale Ritenour, LaMesa, California

The applicant requests a permit renewal to take (survey by pursuit) the Quino checkerspot butterfly (Euphydryas editha quino); and take (harass by survey, capture, handle, release, collect vouchers, analyze soil samples, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-89991B

Applicant: Sarah Vonderohe, Sacramento, California

The applicant requests a permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-89994B

Applicant: Daria Snider, Sacramento, California

The applicant requests a permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-082546

Applicant: Elkhorn Slough National Estuarine Reserve, Watsonville, California

The applicant requests a permit renewal to take (harass by survey, capture, handle, collect biological samples, and release) the Santa Cruz long-toed salamander (Ambystoma macrodactylum croceum) in Monterey and Santa Cruz Counties, California, in conjunction with research activities for the purpose of enhancing the species' survival.

Permit No. TE-092162

Applicant: Andrew Borcher, Lakeside, California

The applicant requests a permit renewal to take (locate and monitor nests) the least Bell's vireo (Vireo bellii pusillus) and take (survey by pursuit) the Quino checkerspot butterfly (Euphydryas editha quino) in conjunction with survey activities throughout the range of the species in California for the purpose of enhancing the species' survival.

Permit No. TE-063429

Applicant: California Department of Water Resources, Fresno, California

The applicant requests a permit renewal to take (capture, handle, and release) the Fresno kangaroo rat (Dipodomys nitratoides exilis), giant kangaroo rat (Dipodomys ingens), Tipton kangaroo rat (Dipodomys nitratoides nitratoides), and Buena Vista Lake shrew (Sorex ornatus relictus) in conjunction with survey activities throughout the range of the species in California for the purpose of enhancing the species' survival.

Permit No. TE-027296

Applicant: Michael H. Fawcett, Bodega, California

The applicant requests a permit renewal to take (harass by survey, capture, handle, and release) the California tiger salamander (Sonoma County Distinct Population Segment (DPS)) (Ambystoma californiense) in Sonoma County, California; take (harass by survey, capture, handle, and release) the California freshwater shrimp (Syncaris pacifica) throughout the range of the species; and take (harass by survey, capture, handle, release, and collect voucher specimens) the tidewater goby (Eucyclogobius newberryi) in Marin, Mendocino, Monterey, San Francisco, San Mateo, Santa Cruz, and Sonoma Counties, California, in conjunction with survey activities for the species for the purpose of enhancing the species' survival.

Permit No. TE-813545

Applicant: Brock Ortega, Poway, California

The applicant requests a permit renewal to take (locate and monitor nests) the least Bell's vireo (Vireo bellii pusillus); take (survey by pursuit) the Quino checkerspot butterfly (Euphydryas editha quino); take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey and nest monitoring) the southwestern willow flycatcher (Empidonax traillii extimus) in conjunction with survey and population monitoring activities throughout the range of the species in California for the purpose of enhancing the species' survival.

Permit No. TE-89964A

Applicant: Debra Barringer, Ventura, California

The applicant requests a permit amendment to take (harass by survey, locate and monitor nests, and erect/install symbolic fencing and signs) the California least tern (Sternula antillarum browni) (Sterna a. browni) in conjunction with survey activities in San Diego and Ventura Counties, California, for the purpose of enhancing the species' survival.

Permit No. TE-068799

Applicant: Mikael T. Romich, Redlands, California

The applicant requests a permit amendment to take (harass by survey, nest monitor, and remove brown-headed cowbird (Molothrus ater) eggs and chicks from parasitized nests) southwestern willow flycatcher (Empidonax traillii extimus) throughout the range of the species in California, Arizona, New Mexico, and Nevada; take (locate and monitor nests, and remove brown-headed cowbird (Molothrus ater) eggs and chicks from parasitized nests) least Bell's vireo (Vireo bellii pusillus); and take (harass by survey, capture, handle, and release) the San Bernardino Merriam's kangaroo rat (Dipodomys merriami parvus) and Stephens' kangaroo rat (Dipodomys stephensi) in conjunction with surveys, population monitoring, and territorial mapping activities throughout the range of the species in California for the purpose of enhancing the species' survival.

Permit No. TE-221287

Applicant: Diana G. Saucedo, San Diego, California

The applicant requests a permit amendment to take (survey by pursuit) the Quino checkerspot butterfly (Euphydryas editha quino); and take (harass by survey, capture, handle, release, collect vouchers, and collect branchiopod cysts) the San Diego fairy shrimp (Branchinecta sandiegonensis) and Riverside fairy shrimp (Streptocephalus woottoni) in conjunction with survey activities throughout the range of the species for the purpose of enhancing the species' survival.

Permit No. TE-067992

Applicant: Daniel Dugan, Morro Bay, California

The applicant requests a permit renewal to take (locate, handle, measure, relocate, and release) the Morro shoulderband snail (Banded dune) (Helminthoglypta walkeriana) in San Luis Obispo County, California; and take (harass by survey, capture, handle, and release) the tidewater goby (Eucyclogobius newberryi) throughout the range of the species in California, in conjunction with survey activities for the species for the purpose of enhancing the species' survival.

Permit No. TE-067990

Applicant: Barbie Dugan, Morro Bay, California

The applicant requests a permit renewal to take (locate, handle, measure, relocate, and release) the Morro shoulderband snail (Banded dune) (Helminthoglypta walkeriana) in conjunction with survey activities for the species in San Luis Obispo County, California, for the purpose of enhancing the species' survival.

Permit No. TE-92167B

Applicant: San Francisco Zoological Society, San Francisco, California

The applicant requests a permit to take (captive rear, perform husbandry, transport, insert PIT (passive integrated transponder) tag, perform biological testing, treat, euthanize, perform behavior studies, and perform genetic analysis) throughout all life stages, the Sierra Nevada yellow-legged frog (Rana sierrae) and mountain yellow-legged frog ((southern California DPS, and northern California DPS) (Rana muscosa)) in conjunction with research, captive rearing, and general husbandry activities at the San Francisco Zoo and Gardens in San Francisco, California for the purpose of enhancing the species' survival.

Permit No. TE-813431

Applicant: Peter Famolaro, Spring Valley, California

The applicant requests a permit renewal to take (harass by survey) the light-footed Ridgway's rail (light-footed clapper r.) (Rallus obsoletus levipes) (R. longirostris l.) in San Diego County, California; take (harass by survey, locate and monitor nests, and remove brown-headed cowbird (Molothrus ater) eggs and chicks from parasitized nests) southwestern willow flycatcher (Empidonax traillii extimus); and take (locate and monitor nests, remove brown-headed cowbird (Molothrus ater) eggs and chicks from parasitized nests, capture, handle, and band) least Bell's vireo (Vireo bellii pusillus), in conjunction with population monitoring, research, and survey activities throughout the range of the species in California for the purpose of enhancing the species' survival.

Permit No. TE-92719B

Applicant: Thomas Dayton, Encinitas, California

The applicant requests a new permit to take (harass by survey) the southwestern willow flycatcher (Empidonax traillii extimus); and take (harass by survey, and locate and monitor nests) least Bell's vireo (Vireo bellii pusillus), in conjunction with population monitoring, and survey activities throughout the range of the species for the purpose of enhancing the species' survival.

Permit No. TE-744878

Applicant: Institute for Wildlife Studies, Arcata, California

The applicant requests a permit renewal to take (harass by survey, capture, handle, measure, sex, insert PIT tag, radio-collar, vaccinate, collect biological samples, treat for ear mites, test for reproductive capacity and status, transport, and release) the Santa Cruz Island fox (Urocyon littoralis santacruzae), and Santa Catalina Island fox (Urocyon littoralis catalinae) in conjunction with research activities on Santa Cruz Island in Santa Barbara County and Santa Catalina Island in Los Angeles County, California for the purpose of enhancing the species' survival.

Permit No. TE-92770B

Applicant: East Bay Zoological Society, Oakland, California

The applicant requests a permit to take (captive rear, perform husbandry, transport, insert PIT tag, perform biological testing, treat, euthanize, perform behavior studies, and perform genetic analysis) throughout all life stages, the Sierra Nevada yellow-legged frog (Rana sierrae), and mountain yellow-legged frog ((southern California DPS, and northern California DPS) (Rana muscosa)) in conjunction with research, captive rearing, and general husbandry activities at the Oakland Zoo, Oakland, California for the purpose of enhancing the species' survival.

Permit No. TE-106908

Applicant: Manna Warburton, San Diego, California

The applicant requests a permit renewal to take (harass by survey, capture, handle, measure, insert PIT tag, and release) the arroyo toad (arroyo southwestern) (Anaxyrus californicus) and the mountain yellow-legged frog (southern California DPS) (Rana mucosa) in Imperial, Los Angeles, Orange, Riverside, San Bernardino, San Diego, Santa Barbara, and Ventura Counties, California; take (harass by survey, capture, handle, and release) the tidewater goby (Eucyclogobius newberryi) in San Diego, Orange, Los Angeles, Ventura, Santa Barbara, San Luis Obispo, Monterey, Santa Cruz, San Mateo, San Francisco, Marin, Sonoma, Mendocino, and Humboldt Counties, California; and take the unarmored threespine stickleback (Gasterosteus aculeatus williamsoni) in the Santa Clara River in Los Angeles and Ventura Counties, and Sugarloaf Pond in the San Bernardino National Forest, San Bernardino County, California, in conjunction with survey activities for the purpose of enhancing the species' survival.

Permit No. TE-92799B

Applicant: Karl Fairchild, Fullerton, California

The applicant requests a new permit to take (harass by survey, and locate and monitor nests) southwestern willow flycatcher (Empidonax traillii extimus) and least Bell's vireo (Vireo bellii pusillus) in conjunction with survey and population monitoring activities in Ventura County, California for the purpose of enhancing the species' survival.

Permit No. TE-89998A

Applicant: Matthew Amalong, Fountain Valley, California

The applicant requests a permit renewal to take (harass by survey, locate and monitor nests, capture, band, and release) California least tern (Sternula antillarum browni) (Sterna a. browni) in conjunction with survey and population monitoring activities throughout the range of the species in California for the purpose of enhancing the species' survival.

Permit No. TE-92905B

Applicant: Brian Berry, Bakersfield, California

The applicant requests a permit to take (harass by survey, capture, handle, mark, and release) the Tipton kangaroo rat (Dipodomys nitratoides nitratoides), Fresno kangaroo rat (Dipodomys nitratoides exilis), and giant kangaroo rat (Dipodomys ingens) in conjunction with survey activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2016-09260 Filed 4-20-16; 8:45 am]

BILLING CODE 4333-15-P